DEPARTMENT OF TRANSPORTATION

Federal Aviation Administration

[Docket No. FAA-2025-0799]

Implementation of Required Safety Enhancements on Boeing 737 MAX Airplanes

AGENCY: Federal Aviation Administration, DOT.

ACTION: Notice of implementation plan.

SUMMARY: Section 501 of the Consolidated Appropriations Act, 2023 restricts the issuance of airworthiness certificates for, and the operation of, Boeing 737 MAX aircraft unless certain safety enhancements are incorporated. This Notice announces the Federal Aviation Administration (FAA)'s plan for implementing and addressing these requirements.

FOR FURTHER INFORMATION CONTACT: Tom Matzen, Manager, Aircraft Evaluation Division's Air Carrier Branch, (AFS-110), 2200 S 216th St, Des Moines, WA 98198-6547; email: 9-AVS-AFS-100@faa.gov to the attention of Tom Matzen.

SUPPLEMENTARY INFORMATION:

Background

Congress issued Section 501 of the Consolidated Appropriations Act, 2023, Public Law 117-328, (the 2022 amendment), which amended chapter 447 of Title 49, United States Code (49 U.S.C.) to add § 44744, Flight crew alerting. Sections 44744(a) and (b) prohibit the FAA from issuing new or amended type certificates for transport category airplanes for which the application was submitted on or after December 27, 2020, unless the design incorporates a flight crew alerting system with certain functions. The FAA is taking other actions to address Sections 44744(a) and (b).¹

¹ See FAA Policy Statement AIR600-21-AIR-600-PM04-R2 available at https://drs.faa.gov.

Section 44744(d) defines the models that are considered to be “Boeing 737 MAX” aircraft. The Boeing Model 737-10 is one such model. The Boeing 737-10 is still a proposed design, not yet approved (type certificated) by the FAA. Boeing has proposed to the FAA that the flight crew alerting system for the Boeing 737-10 will include a synthetic enhanced angle of attack system, and a means to shut off stall warning and overspeed alerts.

Beginning one year after the FAA's approval of the type certificate for the Boeing 737-10, section 44744(c)(1) prohibits the FAA from issuing an original airworthiness certificate for a Boeing 737 MAX aircraft, unless that aircraft's type design includes safety enhancements. Section 44744(d) defines those enhancements as a synthetic enhanced angle of attack system and a means to shut off stall warning and overspeed alerts, or their equivalents.

Similarly, beginning three years after the FAA's type certification of the Boeing 737-10, section 44744(c)(2) prohibits the operation of any Boeing 737 MAX aircraft unless the type design for that aircraft includes the aforementioned safety enhancements, and the individual aircraft was produced or altered to be in conformance with that type design. Due to the public interest in how the FAA plans to address section 44744, the FAA announces the following implementation plan.

Implementation Plan

The FAA will implement Section 44744 of 49 U.S.C. via the following actions:

1. Evaluate and, as appropriate, certify the proposed design of the required safety enhancements as part of the type design of the Boeing Model 737-10.

2. Evaluate and, as appropriate, certify the design changes that would incorporate the required safety enhancements on all other models of Boeing 737 MAX aircraft.

3. Monitor Boeing to ensure the company takes all actions necessary to provide service information to operators of Boeing 737 MAX aircraft in time to meet required deadlines.

4. Monitor operators to ensure that retrofit of in-service U.S-registered Boeing 737 MAX aircraft is accomplished prior to the required deadline.

Issued in Washington, DC.
Hugh J. Thomas,
Acting Executive Director, Flight Standards Service.

[FR Doc. 2025-22787 Filed 12-12-25; 8:45 am]

BILLING CODE 4910-13-P